DEPARTMENT OF HOUSING AND URBAN DEVELOPMENT

[Docket No. FR-5076-D-12]

Order of Succession for the Office of Fair Housing and Equal Opportunity

AGENCY: Office of the Assistant Secretary for Fair Housing and Equal Opportunity, HUD.

ACTION: Notice of order of succession.

SUMMARY: In this notice, the Assistant Secretary for Fair Housing and Equal Opportunity designates the Order of Succession for the Office of Fair Housing and Equal Opportunity. This Order of Succession supersedes the Order of Succession for the Assistant Secretary for Fair Housing and Equal Opportunity published on November 6, 2000.

Effective Date: June 14, 2006.

FOR FURTHER INFORMATION, CONTACT: Deborah R. Harrison, Administrative Officer, Office of Fair Housing and Equal Opportunity, Resource Management Division, Department of Housing and Urban Development, 451 Seventh Street, SW., Room 5124, Washington, DC 20410, (202) 708-2701. (This is not a toll-free number.) This number may be accessed through TTY by calling the toll-free Federal Information Relay Service at 1-(800)-877-8339.

SUPPLEMENTARY INFORMATION: The Assistant Secretary for Fair Housing and Equal Opportunity is issuing this Order of Succession of officials authorized to perform the functions and duties of the Office of the Assistant Secretary for Fair Housing and Equal Opportunity when, by reason of absence, disability, or vacancy in office, the Assistant Secretary is not available to exercise the powers or perform the duties of the office. This Order of Succession is subject to the provisions of the Federal Vacancies Reform Act of 1998 (5 U.S.C. 3345-3349d). This publication supersedes the Order of Succession notice on November 6, 2000 (65 FR 66550).

Accordingly, the Assistant Secretary for Fair Housing and Equal Opportunity designates the following Order of Succession:

Section A. Order of Succession

Subject to the provisions of the Federal Vacancies Reform Act of 1998, during any period when, by reason of absence, disability, or vacancy in the office, the Assistant Secretary for Fair Housing and Equal Opportunity is not available to exercise the powers or perform the duties of the Office of Assistant Secretary for Fair Housing and Equal Opportunity, the following officials within the Office of Fair Housing and Equal Opportunity are hereby designated to exercise the powers and perform the duties of the Office:

(1) General Deputy Assistant Secretary for Fair Housing and Equal Opportunity;

(2) Deputy Assistant Secretary for Enforcement and Programs;

(3) Deputy Assistant Secretary for Operations and Management;

(4) Director, Office of Policy, Legislative Initiatives, and Outreach;

(5) Director, Office of Enforcement;

(6) Director, Office of Programs;

(7) Director, Office of Management, Planning, and Budget;

(8) Director, Policy and Legislative Initiatives Division.

These officials shall perform the functions and duties of the office in the order specified herein, and no official shall serve unless all the other officials, whose position titles precede his/hers in this order, are unable to act by reason of absence, disability, or vacancy in the office.

Section B. Authority Superseded

This Order of Succession supersedes the Order of Succession for the Assistant Secretary for Fair Housing and Equal Opportunity, published on November 6, 2000 (65 FR 66550).

Authority: Section 7(d), Department of Housing and Urban Development Act, 42 U.S.C. 3535(d).

Dated: June 14, 2006.
Kim Kendrick,
Assistant Secretary for Fair Housing and Equal Opportunity.

[FR Doc. E6-17045 Filed 10-17-06; 8:45 am]

BILLING CODE 4210-67-P